DEPARTMENT OF THE TREASURY

Customs Service

Retraction of Revocation or Cancellation Notice

AGENCY: Customs Service, Department of the Treasury.

ACTION: General Notice.

SUMMARY: The following Customs broker license numbers were erroneously included in a list of revoked or cancelled Customs broker licenses.

Name | License | Port Name
Craig International | 13252 | Cleveland
Virginia H. Venslovaitis | 11779 | Champlain
Robert J. Schott | 05272 | Washington

Customs broker licenses numbered 05272, 11779, and 13252 remain valid.

Dated: March 8, 2002.
Bonni G. Tischler,
Assistant Commissioner, Office of Field Operations.

[FR Doc. 02-7534 Filed 3-28-02; 8:45 am]

BILLING CODE 4820-02-P